DEPARTMENT OF ENERGY

Federal Energy Regulatory Commission

[Docket No. RP00-237-001]

Columbia Gas Transmission Corporation; Notice of Proposed Changes in FERC Gas Tariff

June 1, 2000.

Take notice that on May 26, 2000, Columbia Gas Transmission Corporation (Columbia) tendered for filing as part of its FERC Gas Tariff, Second Revised Volume No. 1, the following revised tariff sheets with a proposed effective date of May 1, 2000:

Substitute Fifth Revised Sheet No. 280

Substitute Seventh Revised Sheet No. 281

Substitute Fourth Revised Sheet No. 283

Columbia states that on March 31, 2000, it filed tariff sheets in Docket No. RP00-237 to revise its tariff to comply with the Commission's changes in its Order No. 637 to the right-of-first-refusal (ROFR) afforded certain firm shippers in 18 CFR 284.221(d)(2)(ii). In Order No. 637, the Commission revised the ROFR to limit its applicability. Columbia revised General Terms and Conditions (GTC) Section 4, which contains the procedures for the awarding the existing firm capacity and the exercise of the ROFR of Columbia, to reflect these changes. On April 26, 2000, the Commission accepted the filed tariff sheets to be effective May 1, 2000, subject to Columbia making certain revisions within 30 days. The instant filing is being made to comply with the April 26 Order.

Columbia states that copies of its filing and have been mailed to all firm customers, interruptible customers, and affected state commissions.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14234 Filed 6-6-00; 8:45 am]

BILLING CODE 6717-01-M